DEPARTMENT OF ENERGY

Federal Energy Regulatory Commission

[Project No. 2782-006]

Parowan City, Utah; Notice of Ava

April 11, 2003.

In accordance with the National Environmental Policy Act of 1969 and the Federal Energy Regulatory Commission's (Commission) regulations, 18 CFR part 380 (Order No. 486, 52 FR 47897), the Office of Energy Projects has reviewed the application for license for the Red Creek Hydroelectric Project located on Red Creek, in Iron County, Utah, and has prepared a final Environmental Assessment (EA) for the project. The project occupies 19.06 acres of United States lands administered by the Bureau of Land Management.

The final EA contains Commission staff's analysis of the potential environmental impacts of the project and concludes that licensing the project, with appropriate environmental protective measures, would not constitute a major federal action that would significantly affect the quality of the human environment.

A copy of the final EA is available for review at the Commission in the Public Reference Room or may be viewed on the Commission's Web site at http://www.ferc.gov using the “FERRIS” link. Enter the docket number excluding the last three digits in the docket number field to access the document. For assistance contact FERC Online Support at FERCOnlineSupport@ferc.gov or toll-free at (866) 208-3676, or for TTY, (202) 502-8659.

FOR FURTHER INFORMATION CONTACT: Steve Hocking at (202) 502-8753 or steve.hocking@ferc.gov.

Magalie R. Salas,
Secretary.

[FR Doc. 03-9524 Filed 4-16-03; 8:45 am]

BILLING CODE 6717-01-P